ENVIRONMENTAL PROTECTION AGENCY

[FRL-7929-3]

Clean Air Act Federal Operating Permit Program; Notice of Final Permit Actions for Federal Operating Permits

AGENCY: Environmental Protection Agency (EPA).

ACTION: Notice.

SUMMARY: This is notice that 24 Federal Tribal Operating permits have been issued from EPA Region VIII. These permits grant approval to the facilities identified in the permits to operate the air emission sources identified in the permits in accordance with the terms and conditions of the respective permits.

FOR FURTHER INFORMATION CONTACT: If you have any questions or would like a copy of any of the permits listed below, please contact Monica Morales, Air Technical Assistance Unit, Mailcode 8P-AR, EPA, Region 8, 999 18th Street, Suite 300, Denver, Colorado 80202-2466, (303) 312-6936, morales.monica@epa.gov.

SUPPLEMENTARY INFORMATION: Notice is hereby given that EPA Region 8 has issued Federal operating permits to the applicants listed in the table below:

Company name | Facility name | Permit No. | Reservation | Issuance date | Effective date
Red Cedar Gathering Co | Antler Gas Plant | V-SU-0019-00.00 | Southern Ute | 11/22/00 | 12/1/00
BP America Production Co | Florida River CF | V-SU-0022-00.00 | Southern Ute | 6/5/01 | 6/5/01
Devon SFS Operating Inc. | Riverton Dome GP | V-WR-0002-00.00 | Wind River | 5/23/01 | 7/2/01
El Paso Natural GS | Bondad CS | V-SU-0028-00.00 | Southern Ute | 6/25/01 | 7/25/01
Red Willow UC | Coyote Gulch CS | V-SU-0017-00.00 | Southern Ute | 7/1/01 | 7/1/01
Plum Creek Northwest Lumber Inc. | Pablo Saw Mill Facility | V-FH-0001-00.00 | Flathead | 8/3/01 | 8/3/01
Peak Sulfur Co | Riverton Facility | V-WR-0003-00.00 | Wind River | 11/1/01 | 12/1/01
Williston Basin Interstate Pipeline Co | Hardin CS | V-C-0001-00.00 | Crow | 6/17/02 | 7/27/02
Red Cedar Gathering Co | Outlaw CS | V-SU-0033-02.00 | Southern Ute | 1/30/03 | 2/10/03
BP American Production Co | Wolf Point CS | V-SU-0034-02.00 | Southern Ute | 2/27/03 | 3/9/03
Conoco Phillips Co | Sunnyside CS | V-SU-0032-02.00 | Southern Ute | 2/27/03 | 4/7/03
Williams Service Field Co | PLA-9 Central Delivery Point | V-SU-0014-00.00 | Southern Ute | 2/27/03 | 4/7/03
Red Cedar Gathering Co | Animas CS | V-SU-0035-02.00 | Southern Ute | 5/1/03 | 5/1/03
Questar | Red Wash 24B GP | V-OU-0001-00.00 | Uintah & Ouray | 7/3/03 | 7/13/03
Northwest Pipeline | La Plata B CS | V-SU-0029-00.00 | Southern Ute | 11/19/03 | 11/19/03
Transwestern Pipeline Co | La Plata A CS | V-SU-0013-00.00 | Southern Ute | 11/19/03 | 10/24/03
Williams Field Service Co | Ignacio Plant | V-SU-0027-00.00 | Southern Ute | 11/19/03 | 11/29/03
Conoco Phillips Co | Argenta CDP CF | V-SU-0030-01.00 | Southern Ute | 1/9/04 | 1/19/04
Red Cedar Gathering Co | Pump Canyon CS | V-SU-0036-02.00 | Southern Ute | 1/9/04 | 1/19/04
Red Cedar Gathering Co | Homstead CS | V-SU-0037-03.00 | Southern Ute | 1/9/04 | 1/19/04
BP America Production Co | Dry Creek CF | V-SU-0038-03.00 | Southern Ute | 1/9/04 | 1/19/04
SG Interests Inc. | South Ignacio Central Delivery | V-SU-0031-01.00 | Southern Ute | 4/2/04 | 4/2/04
BP America Production Co | Miera CF | V-SU-0039-04.00 | Southern Ute | 5/3/04 | 5/3/04
Red Cedar Gathering Co | La Posta CS | V-SU-0040-04.00 | Southern Ute | 1/13/05 | 2/14/05

These permits grant approval to the facilities identified in the permits to operate the air emission sources identified in the permits in accordance with the terms and conditions of the respective permits. This notice is published in accordance with 40 CFR 71.11(l)(7), which requires notice of any final agency action regarding a Federal operating permit to be published in the Federal Register.

The Federal part 71 operating permits issued by EPA to the facilities identified above incorporate all applicable air quality requirements and require monitoring to ensure compliance with these requirements. Submittal of periodic reports of all required monitoring, as well as submittal of an annual compliance certification, are also required. The Federal operating permits have a term not to exceed five years, and a timely and complete application for permit renewal must be submitted to EPA prior to permit expiration in order to continue operation of the permitted source.

The provisions of 40 CFR part 71 govern issuance of these permits. EPA published a notice and opportunity to comment in a newspaper of general circulation in the area of the facility for each permit issued. In accordance with the requirements of 40 CFR 71.11(j), EPA responded to all comments received on these permits. Pursuant to 40 CFR 71.11(i), EPA provided copies of the final permits to the applicant and each person who submitted written comments on a permit or requested notice of the final permit decision. No one petitioned for a review of any of the final permits by the Environmental Appeals Board within 30 days of receipt of the final permits in accordance with 40 CFR 71.11(l). Thus, pursuant to 40 CFR 71.11(i) and (l) the listed permits became final on the dates indicated in the table above. Since no one petitioned the Environmental Appeals Board within 30 days of receipt of the final permits, and such an action is a prerequisite to seeking judicial review of final agency action (see 40 CFR 71.11(l)(4)), the 24 final permits issued to the facilities listed in Table 1 are not subject to the judicial review process provisions of section 307(b) of the Clean Air Act.

40 CFR 71.11(l)(7) requires notice of any final agency action regarding a federal operating permit to be published in the Federal Register. This notice satisfies that requirement.

Dated: June 17, 2005.
Kerrigan G. Clough,
Acting Regional Administrator, Region VIII.

[FR Doc. 05-12709 Filed 6-27-05; 8:45 am]

BILLING CODE 6560-50-P